DEPARTMENT OF THE INTERIOR

Bureau of Land Management

[LLNVL00000.L51010000.ER0000.LVRWF09F3450 241A; N-78803; 11-08807; MO#4500020763; TAS: 14X5017]

Notice of Availability of the Draft Environmental Impact Statement, Including a Draft Programmatic Agreement, for the Clark, Lincoln, and White Pine Counties Groundwater Development Project, NV

AGENCY: Bureau of Land Management, Interior.

ACTION: Notice of Availability.

SUMMARY: In accordance with the National Environmental Policy Act (NEPA) of 1969, as amended, and the National Historic Preservation Act of 1966 (NHPA), as amended, the Bureau of Land Management (BLM) has prepared a Draft Environmental Impact Statement (EIS) and a Draft Programmatic Agreement (PA), which is included as an Appendix to the EIS, for the Southern Nevada Water Authority's (SNWA) Clark, Lincoln, and White Pine Counties Groundwater Development Project (SNWA Project), and by this notice is announcing the opening of the comment period.

DATES: To ensure comments will be considered, the BLM must receive written comments on the SNWA Project Draft EIS and Draft PA within 90 days following the date the Environmental Protection Agency publishes its Notice of Availability in the Federal Register. The BLM will announce future meetings or hearings and any other public involvement activities at least 15 days in advance through public notices, media releases, and/or mailings.

ADDRESSES: You may submit comments related to the Draft EIS or the Draft PA for the SNWA Project by any of the following methods:

• E-mail: nvgwprojects@blm.gov.

• Fax: (775) 861-6689.

• Mail: SNWA Project, Bureau of Land Management, Attn: Penny Woods, P.O. Box 12000, Reno Nevada 89520.

For a copy of the SNWA Project Draft EIS and Draft PA you may: send a written request to BLM at the above address; call project manager Penny Woods at (775) 861-6466; e-mail penny_woods@blm.gov; or download the document from the BLM's Web site at http://www.blm.gov/5w5c. A list of where review copies are available is in the SUPPLEMENTARY INFORMATION section.

FOR FURTHER INFORMATION CONTACT: Penny Woods, Project Manager, telephone (775) 861-6466; address P.O. Box 12000, Reno, Nevada 89520; e-mail penny_woods@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Cooperating Agencies: Federal—Fish and Wildlife Service, Bureau of Reclamation, Bureau of Indian Affairs, National Park Service, Forest Service, Army Corps of Engineers, Nellis Air Force Base; State—Nevada Department of Wildlife, State of Utah; Counties and County Organizations—Central Nevada Regional Water Authority, White Pine, Lincoln, and Clark counties (NV); and Juab, Millard, and Tooele counties (UT).

Review copies are also available in the following locations:

BLM Offices in Nevada

Nevada State Office, 1340 Financial Blvd., Reno

Ely District Office, 702 N. Industrial Way, Ely

Caliente Field Office, U.S. Hwy. 93, Building #1, Caliente

Southern Nevada District Office, 4701 N. Torrey Pines Drive, Las Vegas.

Libraries in Nevada

Nevada State Library, 100 N. Stewart St., Carson City

White Pine County Library, 950 Campton St., Ely

Lincoln County Library, 100 Depot Ave., Caliente

Lincoln County Library, 100 N. First St. E., Alamo

Mesquite Library, 121 W. First N. St., Mesquite

Clark County Library, 1401 E. Flamingo Road, Las Vegas.

BLM Offices in Utah

Utah State Office, 440 W. 200 S., Salt Lake City

West Desert District Office, 2370 S. 2300 W., Salt Lake City

Color Country District Office, 1760 East DL Sargent Drive, Cedar City

Fillmore Field Office, 35 E. 500 N., Fillmore

St George Field Office, 345 E. Riverside Drive, St. George.

Libraries in Utah

Utah State Library, 250 N. 1950 W., Salt Lake City

Delta City Library, 76 N. 200 W., Delta

Cedar City Library, 303 N. 100 E., Cedar City

Washington County Library, 88 W. 100 S., St George

Tooele City Library, 128 W. Vine St., Tooele

Nephi Library, 21 E. 100 N., Nephi

Beaver Library, 55 W. Center St., Beaver.

The Draft EIS describes and analyzes SNWA's rights-of-way (ROW) request over public land for the SNWA Project, which would develop and convey groundwater rights that may be granted by the Nevada State Engineer (NSE) to SNWA in Spring, Snake, Delamar, Dry Lake, and Cave valleys based on applications that are currently pending before the NSE. The Draft EIS addresses the ROW request as submitted by SNWA; alternative alignments of pipelines, power lines and other ancillary facilities; alternative pumping locations/scenarios; and a no action alternative.

A programmatic agreement is a program alternative allowed under the regulations of the Advisory Council on Historic Preservation (ACHP) for complying with the historic properties review process required of every Federal undertaking pursuant to section 106 of NHPA and its implementing regulations (36 CFR 800.14). When executed by the BLM, the Nevada State Historic Preservation Officer (SHPO), the U.S. Army Corps of Engineers, ACHP, and SNWA, the terms of the executed PA will set forth the conditions for satisfying the SNWA Project's obligations under section 106 of the NHPA.

Under the proposed action, SNWA could be granted a ROW that would permit the development and operation of a system of regional water facilities that could be used to convey up to 217,655 acre-feet-per-year (afy) of groundwater rights, including 184,655 afy of SNWA groundwater rights (if permitted by the NSE) with the remaining capacity reserved for future use by Lincoln County. The exact amount of groundwater available to the proposed project is dependent upon the future action by the NSE. The EIS and ROW application do not authorize or address permitting of water rights. The NSE is solely responsible for those issues.

The proposed ROW project would include approximately 306 miles of a buried water pipeline between 16 and 84 inches in diameter; approximately 323 miles of 230 kilovolt (kV), 69 kV and 25 kV overhead power lines; 2 primary electrical substations, 5 secondary substations, 3 pressure-reducing facilities; 5 pumping stations; 6 regulating tanks; a 40-million-gallon-per-day buried storage reservoir; a 165 million-gallon-per-day water treatment facility; and associated access roads.

This is the initial EIS in a tiered NEPA evaluation process. As described in Council on Environmental Quality Regulations, a tiered NEPA process can be used for Proposed Actions such as the SNWA Project when specific locations have not been defined for all phases. Under NEPA, tiering involves a two-fold approach wherein general analyses are first covered in a broad EIS and more detailed issues are tiered (referenced) to that broader EIS. Once the broader EIS is completed, subsequent narrower statements or environmental assessments incorporate the general discussions from the broader EIS by reference, allowing the subsequent document to concentrate on the issues specific to the project or project phase. The NEPA regulations encourage Federal agencies to tier environmental documents for multi-stage projects to eliminate repetitive discussions of the same issues and to focus on the issues that are ready for decision at each level of environmental review.

This EIS is broad in scope and evaluates the potential environmental effects of granting SNWA's proposed ROW, including: (1) Pumping up to 184,655 afy of SNWA groundwater rights (if permitted by the NSE); and (2) Construction of the SNWA Project's proposed main pipeline, power facilities, and water storage and treatment facilities which are part of the current ROW request. These mainline facilities are not all of the facilities ultimately required for construction and operation of the SNWA Project, if fully developed. Full development of the SNWA Project would likely require between 108 and 131 groundwater production wells, 100-250 miles of collector pipeline and overhead power lines, and 2 additional pumping stations and electrical substations. The specific locations of these additional facilities are dependent upon future rulings of the NSE (whether and where the SNWA's groundwater right applications are granted), exploratory drilling (which would determine where SNWA can best access its groundwater rights), and agency agreements (SNWA may agree to change the location, timing, and quantity of pumping to minimize or mitigate effects to sensitive resources). When SNWA later applies for site-specific ROWs for these additional groundwater production wells and associated facilities, then additional NEPA compliance, tiered to this EIS, would consider the site-specific effects of future facility construction and operation. The sources of water for the reserved Lincoln County capacity have not been determined at this time, and would be subject to additional NEPA compliance, tiered to this EIS, before it could be conveyed and delivered by the SNWA Project.

A permanent ROW of up to 100 feet in width and temporary construction ROWs of an additional 100 feet would be required for the main and lateral pipelines. In areas of level terrain and stable soil conditions, the amount of disturbance of the temporary ROWs may be reduced, however, any potential reductions would not be known until after detailed alignment surveys and project design have been completed.

The permanent ROW needed for power line combinations containing 230 kV and/or 69 kV conductors would be 100 feet in width. This width is required for safety considerations to allow for displacement of the conductors. Only a portion of the permanent ROWs would be disturbed for installation of power poles and access roads where needed. The permanent ROWs for the power lines carrying only 25 kV are 50 feet in width. Temporary ROWs for the power lines are not required because the permanent ROWs are sufficient for construction needs.

In connection with the development of the Draft PA, the BLM identified 15 federally recognized Indian tribes with a traditional or historic connection to the areas potentially impacted by the proposed project. The BLM has initiated government-to-government consultation and invited those 15 tribes to sign the PA as concurring parties. The BLM has also granted consulting party status to certain interested organizations, groups, and agencies that have requested such status for the Section 106 process.

The Draft PA describes the roles and responsibilities of the signatories, the procedures and standards for determining the areas of potential effects from the project for direct, visual, indirect and cumulative effects. This document also describes the roles of Indian tribes and consulting parties in the Section 106 consultation process, and describes the procedures that will be used to encourage participation and take into account the comments of the public. The Draft PA also describes procedures for identifying historic properties that may be affected by the project, determine the eligibility of such properties for the National Register of Historic Places, assessing effects from the project to qualified historic properties, and seeking ways to avoid, minimize, mitigate or otherwise resolve any identified adverse effects to such properties. The Draft PA provides procedures for dealing with unanticipated discoveries of cultural resources, monitoring certain segments of construction by qualified archaeologists and Indian tribal monitors, resolving disputes among the signatories and concurring parties, and otherwise comply with Section 106 obligation.

The BLM notified the public of nine scoping meetings that were held in various communities in Clark, Lincoln, and White Pine counties (Nevada) and Tooele and Juab counties (Utah) between April 26 and May 11, 2005. The public was offered the opportunity to provide oral and written comments at the scoping meetings. A total of 648 individuals attended the scoping meetings, of which 210 individuals provided oral comments. During this first scoping period a total of 954 substantive letters were received from agencies, organizations, businesses, and individuals, and a total of 4,958 form letters (mainly email) were received from non-governmental organizations.

In the summer of 2006, additional scoping was conducted to provide opportunity for public comment on substantive SNWA Project changes: (1) Providing additional pipeline capacity for use by Lincoln County; and (2) Removal of the Tikaboo Lateral in Tikaboo Valley North. A total of 256 substantive letters and no form letters were received during the second scoping period.

During both scoping periods, a total of 1,210 substantive letters were received. Of this total, 597 were received from Nevada, 459 from Utah, and 154 from other states or countries. Key issues identified by individuals, groups, and governmental entities include water supply and use, competing or conflicting land uses, and cumulative impacts and connected actions.

The BLM has prepared the current draft version of the PA in consultation with the Nevada SHPO, ACHP and SNWA. In 2007, the BLM initiatiated government-to-government consultation with the interested tribes in the project area. In 2011, the BLM convened tribal information sessions in Ely and Las Vegas, Nevada, to discuss the Draft PA and to receive comments and suggestions on the Draft PA and other aspects of the project from interested Indian tribes. In March 2011, the BLM also coordinated with the nine other consulting parties that requested to participate in the Section 106 process.

Please note that public comments will be available for public review and disclosure at the BLM Nevada State Office, 1340 Financial Blvd., Reno, Nevada during regular business hours, 8 a.m. to 4 p.m., Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Amy Lueders,
Acting Nevada State Director.

[FR Doc. 2011-14149 Filed 6-9-11; 8:45 am]

BILLING CODE 4310-HC-P